DEPARTMENT OF TRANSPORTATION

Federal Aviation Administration

14 CFR Part 71

[Docket No. FAA-2024-2618; Airspace Docket No. 24-AGL-18]

RIN 2120-AA66

Amendment of United States Area Navigation (RNAV) Route Q-436; Northcentral United States

AGENCY: Federal Aviation Administration (FAA), DOT.

ACTION: Final rule.

SUMMARY: This action amends United States Area Navigation (RNAV) Route Q-436 by changing the name of the “EMMMA”, MI, Fix route point to become the “KAYYS”, MI, Fix. The FAA is taking this action due to the similarly pronounced and sounding names of the EMMMA, MI, Fix and the EMMAS, WI, waypoint (WP) that is located approximately 200 nautical miles (NM) west of the EMMMA Fix. This action is an administrative change to match the Fix name change in the FAA's National Airspace Resource (NASR) database and does not affect the airspace boundaries, route alignment, or operating requirements of Q-436.

DATES: Effective date 0901 UTC, August 7, 2025. The Director of the Federal Register approves this incorporation by reference action under 1 CFR part 51, subject to the annual revision of FAA Order JO 7400.11 and publication of conforming amendments.

ADDRESSES: A copy of this final rule and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System (NAS).

History

The FAA identified a safety issue associated with communications confusion due to similar sounding fix names of the EMMMA, MI, Fix and the EMMAS, WI, WP that is located approximately 200 NM west of the EMMMA Fix. The EMMAS WP is on the EMMAS ONE ARRIVAL Area Navigation (RNAV) Standard Terminal Arrival Route (STAR) into the Chicago/Rockford International Airport, IL, while the EMMMA Fix is part of the EMMMA Transition on the WYNDE TWO ARRIVAL (RNAV) STAR into the Chicago O'Hare International Airport, IL. To resolve the communications confusion caused when either of these two STARs are issued to arriving aircraft at the supported airports, the Chicago Air Route Traffic Control Center (ARTCC) requested one of the fix names be changed.

The FAA was already updating the WYNDE TWO ARRIVAL STAR when the Chicago ARTCC made the fix name change request, so the EMMMA, MI, Fix was selected to be changed and is being renamed the KAYYS, MI, Fix. As a result of the fix name change from “EMMMA” to “KAYYS”, the RNAV Route Q-436 requires amendment to reflect the EMMMA, MI, Fix route point being changed to the KAYYS, MI, Fix route point. The geographic coordinates for the KAYYS Fix will be the same coordinates used to identify the location of the EMMMA Fix. This change is editorial only to match the FAA NASR database information and does not change the airspace boundaries, alignment, or operational use of the high-altitude RNAV route.

Incorporation by Reference

United States Area Navigation Routes (Q-routes) are published in paragraph 2006 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J is publicly available as listed in the ADDRESSES section of this document.

FAA Order JO 7400.11J lists Class A, B, C, D, and E airspace areas, air traffic service routes, and reporting points.

The Rule

This action amends 14 CFR part 71 by amending RNAV Route Q-436 by changing the name of the “EMMMA”, MI, Fix route point to the “KAYYS”, MI, Fix. The FAA is taking this action due to the similarly pronounced and sounding names of the EMMMA, MI, Fix and the EMMAS, WI, waypoint (WP). The Q-436 amendment is described below.

Q-436: Prior to this final rule, Q-436 extended between the EMMMA, MI, Fix and the COATE, NJ, Fix. The airspace within Canada was excluded. The FAA changes the EMMMA, MI, Fix route point name to the KAYYS, MI, Fix at the same location. As amended, the route is changed to now extend between the KAYYS, MI, Fix and the COATE, NJ, Fix. The airspace within Canada continues to be excluded.

This action is an administrative change to match the FAA's NASR database information and does not affect the airspace boundaries, alignment, or operating requirements of RNAV Route Q-436; therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending RNAV Route Q-436 by changing the name of the “EMMMA”, MI, Fix route point to the “KAYYS”, MI, Fix qualifies for categorical exclusion under the National Environmental Policy Act (42 U.S.C. 4321 et seq.) and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5k, which categorically excludes from further environmental impact review publication of existing air traffic control procedures that do not essentially change existing tracks, create new tracks, change altitudes, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), (106)(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2006 United States Area Navigation Routes.

* * * * *

Q-436 KAYYS, MI to COATE, NJ [Amended]
KAYYS, MI | FIX | (Lat. 42°53′03.96″ N, long. 084°34′50.40″ W)
YARRK, Canada | WP | (Lat. 42°31′21.79″ N, long. 081°16′05.81″ W)
CHAAP, Canada | WP | (Lat. 42°30′19.02″ N, long. 080°40′57.36″ W)
RAAKK, NY | WP | (Lat. 42°23′59.00″ N, long. 078°54′39.00″ W)
HERBA, NY | WP | (Lat. 42°14′35.29″ N, long. 078°16′27.84″ W)
LAAYK, PA | FIX | (Lat. 41°28′32.64″ N, long. 075°28′57.31″ W)
COATE, NJ | FIX | (Lat. 41°08′10.42″ N, long. 074°41′42.60″ W)
Excluding the airspace in Canada.

* * * * *

Issued in Washington, DC, on May 6, 2025.
Brian Eric Konie,
Manager (A), Rules and Regulations Group.

[FR Doc. 2025-08229 Filed 5-9-25; 8:45 am]

BILLING CODE 4910-13-P